DEPARTMENT OF HOMELAND SECURITY

Coast Guard

33 CFR Part 100

[Docket No. USCG-2025-1128]

Special Local Regulations; Marine Events Within the Southeast Coast Guard District

AGENCY: Coast Guard, DHS.

ACTION: Notification of enforcement of regulation.

SUMMARY: The Coast Guard will enforce special local regulations for the St. Thomas International Regatta from April 2 through 5, 2026, to provide for the safety of life on navigable waterways during this event. Our regulation for marine events within the Southeast Coast Guard District identifies the regulated area for this event in St. Thomas, USVI. Entry of vessels or persons into this zone is prohibited unless specifically authorized by the Captain of the Port San Juan.

DATES: The regulations in 33 CFR 100.701 will be enforced for the location identified in table 1 to § 100.701, paragraph (a), item 2, from 8 a.m. until 4 p.m., each day from April 2, 2026, through April 5, 2026.

FOR FURTHER INFORMATION CONTACT: If you have questions about this notification of enforcement, call or email Lieutenant Commander Rachel E. Thomas, Sector San Juan, Waterways Management Division Chief, Coast Guard; telephone (571) 613-1417, email Rachel.E.Thomas@uscg.mil.

SUPPLEMENTARY INFORMATION: The Coast Guard will enforce special local regulations in 33 CFR 100.701 for the St. Thomas International Regatta regulated area daily from 8 a.m. to 4 p.m. on April 2 through April 5, 2026. This action is being taken to provide for the safety of life on navigable waterways during this 4-day event. Our regulation for marine events within the Southeast Coast Guard District, § 100.701, in table 1 to § 100.701, paragraph (a), item 2, specifies the location of the regulated area for the St, Thomas International Regatta which encompasses portions of Jersey Bay, St. James Bay, Great Bay, and Little St. James in St. Thomas, USVI. During the enforcement periods, as reflected in § 100.100(c), entry of vessels or persons into this zone is prohibited unless specifically authorized by the Captain of the Port San Juan.

In addition to this notification of enforcement in the Federal Register, the Coast Guard plans to provide notification of this enforcement period via the Local Notice to Mariners and Broadcast Notice to Mariners.

Luis J. Rodríguez,
Captain, U.S. Coast Guard, Captain of the Port Sector San Juan.

[FR Doc. 2026-01686 Filed 1-27-26; 8:45 am]

BILLING CODE 9110-04-P